DEPARTMENT OF ENERGY

10 CFR Part 431

[Docket No. EERE-2013-BT-NOC-0039]

Appliance Standards and Rulemaking Federal Advisory Committee: Notice of Open Teleconference/Webinar for the Commercial and Industrial Pumps Working Group

AGENCY: Office of Energy Efficiency and Renewable Energy, Department of Energy.

ACTION: Notice of open Teleconference/Webinar.

SUMMARY: This document announces an open teleconference/webinar of the Commercial and Industrial Pumps Working Group (Pumps Working Group). The purpose of the Pumps Working Group is to discuss and, if possible, reach consensus on a proposed rule for the energy efficiency of commercial and industrial pumps, as authorized by the Energy Policy and Conservation Act of 1975, as amended.

DATES: Wednesday, May 14, 2014 from 1:00 p.m.-3:00 p.m. (EDT).

ADDRESSES: You may register for the webinar at https://www1.gotomeeting.com/register/956419984.

FOR FURTHER INFORMATION CONTACT: John Cymbalsky, ASRAC Designated Federal Officer, Program Manager for Appliance Standards and Building Codes, U.S. Department of Energy (DOE), Office of Energy Efficiency and Renewable Energy, 950 L'Enfant Plaza SW., Washington, DC 20024. Email: asrac@ee.doe.gov.

SUPPLEMENTARY INFORMATION:

Purpose of Meeting: To update members of the Pumps Working Group on analysis conducted in support of negotiations on potential energy efficiency standards for commercial and industrial pumps and to gather comments from the working group members and from the public.

Tentative Agenda:

• Update on energy efficiency standards economic and engineering analysis.

• Discussion of potential measurement metric.

Public Participation: Members of the public are welcome to observe the business of the webinar and, if time allows, may make oral statements during the specified period for public comment. To participate in the webinar and/or to make oral statements regarding any of the items on the agenda, email asrac@ee.doe.gov. In the email, please indicate your name, organization (if appropriate), citizenship, and contact information. Members of the public will be heard in the order in which they sign up for the Public Comment Period. Time allotted per speaker will depend on the number of individuals who wish to speak but will not exceed five minutes. Reasonable provision will be made to include the scheduled oral statements on the agenda. The co-chairs of the Committee will make every effort to hear the views of all interested parties and to facilitate the orderly conduct of business.

Participation in the webinar is not a prerequisite for submission of written comments. ASRAC invites written comments from all interested parties. Any comments submitted must identify the ASRAC, and provide docket number EERE-2013-BT-NOC-0039. Comments may be submitted using any of the following methods:

1. Federal eRulemaking Portal: www.regulations.gov. Follow the instructions for submitting comments.

2. Email: ASRAC@ee.doe.gov. Include docket number EERE-2013-BT-NOC-0039 in the subject line of the message.

3. Mail: Ms. Brenda Edwards, U.S. Department of Energy, Building Technologies Program, Mailstop EE-2J, 1000 Independence Avenue SW., Washington, DC 20585-0121. If possible, please submit all items on a compact disc (CD), in which case it is not necessary to include printed copies.

4. Hand Delivery/Courier: Ms. Brenda Edwards, U.S. Department of Energy, Building Technologies Program, 950 L'Enfant Plaza SW., Suite 600, Washington, DC 20024. Telephone: (202) 586-2945. If possible, please submit all items on a CD, in which case it is not necessary to include printed copies.

No telefacsimilies (faxes) will be accepted.

Docket: The docket is available for review at www.regulations.gov, including Federal Register notices, public meeting and webinar attendee lists and transcripts, comments, and other supporting documents/materials. All documents in the docket are listed in the www.regulations.gov index. However, not all documents listed in the index may be publicly available, such as information that is exempt from public disclosure.

The Secretary of Energy has approved publication of today's document.

Issued in Washington, DC, on May 5, 2014.
Kathleen B. Hogan,
Deputy Assistant Secretary for Energy Efficiency, Energy Efficiency and Renewable Energy.

[FR Doc. 2014-10731 Filed 5-8-14; 8:45 am]

BILLING CODE 6450-01-P